FEDERAL MINE SAFETY AND HEALTH REVIEW COMMISSION

Sunshine Act, Meetings

January 17, 2006.

Time and Date: 10 a.m., Thursday, January 26, 2006.

Place: The Richard V. Backley Hearing Room, 9th Floor, 601 New Jersey Avenue, NW., Washington, DC.

Status: Open.

Matters To be Considered: The Commission will hear oral argument on the matter Secretary of Labor v. Sedgman, Docket Nos. SE 2002-11, SE 2003-69, and SE 2003-189. (Issues include whether the Administrative Law Judge properly concluded that Sedgman violated 39 CFR 77.200; whether the judge properly held that the Secretary of Labor did not abuse her discretion in citing Sedgman for violations of 30 CFR 77.200 and 77.1710(g); whether the judge properly followed the statutory penalty criteria set forth at 30 U.S.C. 820(i) in setting a penalty for the section 77.200 violation; and whether the judge was correct in deciding to vacate the penalty he assessed for the section 77.200 violation because there was an unreasonable delay by the Secretary in proposing the penalty.)

Any person attending this oral argument who requires special accessibility features and/or auxiliary aids, such as sign language interpreters, must inform the Commission in advance of those needs, subject to 29 CFR 2706.150(a)(3) and 2706.160(d).

Contact Person For More Info: Jean Ellen, (202) 434-9950 / (202) 708-9300 for TDD Relay / 1-800-877-8339 for toll free.

Jean H. Ellen,
Chief Docket Clerk.

[FR Doc. 06-802 Filed 1-24-06; 1:23 pm]

BILLING CODE 6735-01-M